DEPARTMENT OF STATE

[Public Notice 6028]

Deposit of Instrument of Ratification by the United States of the Hague Convention on Protection of Children and Co-operation in Respect of Intercountry Adoption

AGENCY: Department of State.

ACTION: Notice.

SUMMARY: On December 12, 2007, the United States deposited its instrument of ratification for the Hague Convention on Protection of Children and Co-operation with Respect to Intercountry Adoption (the Convention). In accordance with the terms of the Convention, the Convention will enter into force with respect to the United States on April 1, 2008.

The United States signed the Convention on March 31, 1994 and the President transmitted it to the Senate for its advice and consent on June 11, 1998. (S. Treaty Doc. 105-51 at III (1998)). On September 20, 2000, the Senate gave its advice and consent to the ratification of the Convention, subject to certain declarations, and on October 6, 2000, Congress enacted the implementing legislation for the Convention, the Intercountry Adoption Act of 2000, Public Law 106-279, 42 U.S.C. 14901-14952 (the IAA). The President signed the instrument of ratification on November 16, 2007.

FOR FURTHER INFORMATION CONTACT: Miki Stebbing at 202-736-9086. Hearing or speech-impaired persons may use the Telecommunications Devices for the Deaf (TDD) by contacting the Federal Information Relay Service at 1-800-877-8339.

SUPPLEMENTARY INFORMATION: The Convention is a multilateral treaty that provides a framework for the adoption of children habitually resident in one country that is a party to the Convention by persons habitually resident in another country that is also a party to the Convention. The Convention establishes procedures to be followed in these intercountry adoption cases and imposes safeguards to protect the best interests of children. When the Convention enters into force for the United States, it will apply to the United States as both a country of origin (in outgoing adoption cases, i.e., where children are emigrating from the United States to a foreign country) and a receiving country (in incoming adoption cases, i.e., where children are immigrating to the United States from a foreign country).

The implementing legislation for the Convention is the IAA. Under the Convention, the IAA, and the final rule on accreditation, 22 CFR part 96, all agencies and persons providing adoption services in Convention cases must be accredited, temporarily accredited, approved, supervised or exempt in order to provide adoption services in Convention cases. By the terms of the IAA, Convention cases are adoption cases initiated in the child's country of residence with the filing of the appropriate application (the application for advance processing of an orphan petition or petition to classify an orphan as an immediate relative in the United States) on or after April 1.

Dated: December 7, 2007.
Maura Harty,
Assistant Secretary, Bureau of Consular Affairs, Department of State.

[FR Doc. E7-24494 Filed 12-17-07; 8:45 am]

BILLING CODE 4710-06-P